DEPARTMENT OF JUSTICE

Notice of Public Comment Period For Proposed Consent Decrees Under The Clean Air Act, TSCA and RCRA

Under 28 CFR 50.7, notice is hereby given that, for a period of 30 days, the United States will receive public comments on proposed Consent Decrees in United States v. Motiva Enterprises LLC, Equilon Enterprises LLC, and Deer Park Refining Limited Partnership, Civil Action No. H-01-0978, which were lodged with the United States District Court for the Southern District of Texas on March 21, 2001.

These proposed Consent Decrees were lodged simultaneously with the Complaint in this national, multi-facility Clear Air Act (“Act”) enforcement action against Motiva Enterprises LLC, Equilon Enterprises LLC, and Deer Park Refining Limited Partnership, a petroleum refining alliance (“the Companies”), pursuant to section 113(b) of the Clean Air Act (“CAA”), 42 U.S.C. 7413(b) (1983), amended by, 42 U.S.C. 7413(b) (Supp. 1991).

Under the settlement, the Companies will implement pollution control technologies to greatly reduce emissions of nitrogen oxides (“NOX”) and sulfur dioxide (“SO2”) from refinery process units and adopt facility-wide enhanced monitoring and fugitive emission control programs. The Companies will also adopt measures to eliminate excess flaring of hydrogen sulfide. This settlement will result in emission reductions of approximately 60,000 tons per year.

The proposed Consent Decree will also resolve alleged violations under the Resource Conservation and Recovery Act, (“RCRA”), 42 U.S.C. 6901 et seq., and the Toxic Substances Control Act, (“TSCA”), 15 U.S.C. 2601 et seq. at Motiva's Convent, Louisiana, and Port Arthur, Texas refineries, and the Deer Park, Texas refinery operated by Shell.

In addition, the Companies will pay a civil penalty of $9.5 million, and spend $5.5 million on Supplemental Environmental Projects (“SEPs”). The states of Delaware and Louisiana, and the Washington state Northwestern Air Pollution Authority (“NWAPA”) will join in this settlement as Plaintiff-Interveners and signatories to the Consent Decrees and each will benefit from the Companies' performance of the SEPs in the communities where the refineries are located. Delaware and Louisiana will share in the civil penalty.

Comments should be addressed to the Acting Assistant Attorney General, Environment and Natural Resources Division, P.O. Box 7611, U.S. Department of Justice, Washington, DC 20044-7611, and should refer to United States v. Motiva Enterprises LLC, et al., D.J. Ref. 90-5-2-1-07209.

The Consent Decrees may be examined at the Office of the United States Attorney, Southern District of Texas, U.S. Courthouse, 515 Rusk, Houston, Texas 77002, and at EPA Region 6, 1445 Ross Avenue, Dallas, Texas 75202. A copy of the Consent Decrees may also be obtained by mail from the Consent Decree Library, P.O. Box 7611, U.S. Department of Justice, Washington, DC 20044-7611. In requesting a copy, please enclose a check in the amount of $107.75 (25 cents per page reproduction cost) payable to the Consent Decree Library.

Robert D. Brook,
Assistant Chief, Environmental Enforcement Section, Environment and Natural Resources Division.

[FR Doc. 01-8911 Filed 4-10-01; 8:45 am]

BILLING CODE 4410-15-M